DEPARTMENT OF EDUCATION

List of Correspondence From April 1, 2022, Through December 31, 2022

AGENCY: Office of Special Education and Rehabilitative Services, Department of Education.

ACTION: Notice.

SUMMARY: The Secretary is publishing the following list of correspondence from the U.S. Department of Education (Department) received by individuals during quarters two, three, and four of calendar year 2022. The correspondence describes the Department's interpretations of the Individuals with Disabilities Education Act (IDEA) or the regulations that implement IDEA. The letters and other documents described in this list, with personally identifiable information redacted, as appropriate, can be found at https://sites.ed.gov/idea/policy-guidance/.

FOR FURTHER INFORMATION CONTACT: Rebecca Walawender, U.S. Department of Education, 400 Maryland Avenue SW, Room 5103, Potomac Center Plaza, Washington, DC 20202-2500. Telephone: (202) 245-7399. Email: Rebecca.Walawender@ed.gov.

If you are deaf, hard of hearing, or have a speech disability and wish to access telecommunications relay services, please dial 7-1-1.

SUPPLEMENTARY INFORMATION: The following list identifies correspondence for three quarters, April 1, 2022, through December 31, 2022. Under section 607(f) of IDEA, the Secretary is required to publish this list in the Federal Register. The list includes those letters that contain interpretations of the requirements of IDEA and its implementing regulations, as well as letters and other documents that the Department believes will assist the public in understanding the requirements of the law. The list identifies the date and topic of each letter and provides summary information, as appropriate. To protect the privacy interests of the individual or individuals involved, personally identifiable information has been redacted, as appropriate.

2022—Second Quarter

PART B—Assistance for Education of All Children With Disabilities

Section 612—State Eligibility

Topic Addressed: Least Restrictive Environment.

○ Letter dated April 7, 2022, to Garth Tymeson, regarding the provision of physical education, including adapted physical education and the least restrictive environment, to children with disabilities under the Individuals with Disabilities Education Act (IDEA).

Section 615—Procedural Safeguards

Topic Addressed: Impartial Due Process Hearings.

○ Letter dated April 15, 2022, to Perry Zirkel, related to implementation of State complaint, due process complaint, and due process hearing procedures required under the Individuals with Disabilities Education Act (IDEA).

2022—Third Quarter

No letters.

2022—Fourth Quarter

Part B—Assistance for Education of All Children With Disabilities

Section 612—State Eligibility

Topic Addressed: Child Find.

○ Letter dated November 1, 2022, to Virginia Sharpless, addressing child find procedures to assist, and not hinder, parents when they are requesting an initial evaluation of their child for special education and related services.

Topic Addressed: Children In Private Schools.

○ Letter dated November 16, 2022, to Jacquelyn Flanigan, clarifying that any student found eligible under the Individuals with Disabilities Education Act (IDEA) who is enrolled by their parent in a private school, whether or not they have a current or prior individualized education program or services plan, must be counted when calculating the proportionate share of IDEA Part B funds for equitable services to parentally-placed private school children with disabilities. The letter also addressed the use of a Memorandum of Understanding between a public agency and a private school addressing the provision of equitable services.

Accessible Format: On request to the person listed under FURTHER INFORMATION CONTACT, individuals with disabilities can obtain a copy of this notice and the letters or other documents described in this notice in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary. Delegated the authority to perform the functions and duties of the Assistant Secretary for the Office of Special Education and Rehabilitative Services.

[FR Doc. 2023-05579 Filed 3-17-23; 8:45 am]

BILLING CODE 4000-01-P